DEPARTMENT OF EDUCATION

[CFDA Nos. 84.038, 84.033, and 84.007]

Federal Perkins Loan, Federal Work-Study, and Federal Supplemental Educational Opportunity Grant Programs

ACTION: Notice extending the 2006-2007 award year deadline date for the campus-based programs; Extension.

SUPPLEMENTARY INFORMATION: On March 27, 2006, we published a notice in the Federal Register (71 FR 15180-81) announcing the 2006-2007 award year deadline dates for the submission of requests and documents from postsecondary institutions for the campus-based programs. In that notice, on page 15181, we set a deadline date of April 27, 2007 for the submission of requests for a waiver of the FWS Community Service Expenditure Requirement for the 2007-2008 award year. We are extending the deadline date for submission of these requests for waivers to May 31, 2007.

FOR FURTHER INFORMATION CONTACT: Sherlene McIntosh, Director of Campus-Based Systems and Operations Division, U.S. Department of Education, Federal Student Aid, 830 First Street, NE., Union Center Plaza, room 64A3, Washington, DC 20202-5453. Telephone: (202) 377-3242 or via the Internet: sherlene.mcintosh@ed.gov.

If you use a telecommunications device for the deaf (TDD), you may call the Federal Relay Service (FRS) at 1-800-877-8339.

Individuals with disabilities may obtain this document in an alternative format (e.g. Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1087aa et seq.; 42 U.S.C. 2751 et seq.; and 20 U.S.C. 1070b et seq.

Dated: May 4, 2007.
Theresa S. Shaw,
Chief Operating Officer, Federal Student Aid.

[FR Doc. E7-8946 Filed 5-9-07; 8:45 am]

BILLING CODE 4000-01-P